DEPARTMENT OF COMMERCE

National Oceanic and Atmospheric Administration

RIN 0648-XC541

Marine Mammals; File No. 17411

AGENCY: National Marine Fisheries Service (NMFS), National Oceanic and Atmospheric Administration (NOAA), Commerce.

ACTION: Notice; receipt of application.

SUMMARY: Notice is hereby given that Dr. Jennifer Burns, University of Alaska Anchorage, Biology Department, Anchorage, AK, has applied in due form for a permit to conduct research on marine mammals in Antarctica.

DATES: Written, telefaxed, or email comments must be received on or before April 8, 2013.

ADDRESSES: The application and related documents are available for review by selecting “Records Open for Public Comment” from the Features box on the Applications and Permits for Protected Species (APPS) home page, https://apps.nmfs.noaa.gov, and then selecting File No. 17411 from the list of available applications.

These documents are also available upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

Written comments on this application should be submitted to the Chief, Permits and Conservation Division, at the address listed above. Comments may also be submitted by facsimile to (301) 713-0376, or by email to NMFS.Pr1Comments@noaa.gov. Please include File No. 17411 in the subject line of the email comment.

Those individuals requesting a public hearing should submit a written request to the Chief, Permits and Conservation Division at the address listed above. The request should set forth the specific reasons why a hearing on this application would be appropriate.

FOR FURTHER INFORMATION CONTACT: Tammy Adams or Amy Sloan, (301)427-8401.

SUPPLEMENTARY INFORMATION: The subject permit is requested under the authority of the Marine Mammal Protection Act of 1972, as amended (MMPA; 16 U.S.C. 1361 et seq.), and the regulations governing the taking and importing of marine mammals (50 CFR part 216).

The applicant requests a five-year permit to study three questions: (1) What intrinsic or extrinsic factors determine molt phenology in Weddell seals?; (2) How does late season condition and molt status influence current pregnancy and future parturition rates?; and (3) To what extent might changes in food availability during the austral summer impact molt timing and future reproductive success? To achieve project goals, 24 adult female Weddell seals (Leptonychotes weddellii) of known-age and known-reproductive history in the Erebus Bay, Antarctica region will be captured annually for health assessments during reproductive and molt periods each year, to include blood samples, muscle/blubber/skin biopsies, morphometric measurements, and attachment of VHF/TDR/GPS tags. The Weddell seal population will be surveyed for molt status and demographic models: up to 1800 animals of both sexes and any age may be harassed annually during multiple surveys. Up to 10 crabeater seals (Lobodon carcinophagus) may be harassed annually during surveys. The applicant also requests unintentional mortality for up to 3 adult female Weddell seals annually, and euthanasia of 1 Weddell seal pup per year.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 5, 2013.
P. Michael Payne,
Chief, Permits and Conservation Division, Office of Protected Resources, National Marine Fisheries Service.

[FR Doc. 2013-05438 Filed 3-7-13; 8:45 am]

BILLING CODE 3510-22-P